GENERAL SERVICES ADMINISTRATION

Federal Travel Regulation (FTR) Maximum Per Diem Rates for Florida and Virginia

AGENCY: Office of Governmentwide Policy, General Services Administration (GSA).

ACTION: Notice of Per Diem Bulletin 07-02, revised continental United States (CONUS) per diem rates.

SUMMARY: The General Services Administration (GSA) has reviewed the lodging rate of a certain location in the State of Florida. Also, GSA is adding Greene County, Virginia to the County column for Charlottesville, Virginia, and will begin to receive Charlottesville's maximum per diem rate. The per diems prescribed in Bulletin 07-02 may be found at www.gsa.gov/perdiem.

DATES: This notice is effective December 4, 2006, and applies to travel performed on or after December 14, 2006.

FOR FURTHER INFORMATION CONTACT: For clarification of content, contact Mr. Cy Greenidge, Office of Governmentwide Policy, Travel Management Policy, at (202) 219-2349. Please cite FTR Per Diem Bulletin 07-02.

SUPPLEMENTARY INFORMATION:

A. Background

After an analysis of the per diem rates established for FY 2007 (see the Federal Register notice at 71 FR 43772, August 2, 2006), the per diem rate is being changed in the following locations:

State of Florida

• Brevard County

State of Virginia

• Greene County

Per diem rates are published on the Internet at www.gsa.gov/perdiem as an FTR Per Diem Bulletin and published in the Federal Register on a periodic basis. This process ensures timely increases or decreases in per diem rates established by GSA for Federal employees on official travel within CONUS. Notices published periodically in the Federal Register, such as this one, now constitute the only notification of revisions in CONUS per diem rates to agencies.

Dated: November 22, 2006.
Russ H. Pentz,
Assistant Deputy Associate Administrator, Office of Transportation and Personal Property.

[FR Doc. E6-20407 Filed 12-01-06; 8:45 am]

BILLING CODE 6820-14-S